DEPARTMENT OF COMMERCE

International Trade Administration

[C-122-815]

Alloy Magnesium from Canada: Final Results of Countervailing Duty New Shipper Review

AGENCY: Import Administration, International Trade Administration, Department of Commerce.

ACTION: Notice of Final Results of Countervailing Duty New Shipper Review.

SUMMARY: On January 28, 2003, the Department published the preliminary results of this new shipper review of the countervailing duty order on alloy magnesium from Canada. This new shipper review covers imports of subject merchandise from Magnola Metallurgy, Inc.

The period for which we are measuring subsidies, or the period of review, is from January 1 through December 21, 2001.

We invited interested parties to comment on our preliminary results. Based on our analysis of the comments received, we have made no changes to our calculations. Therefore, the final results do not differ from the preliminary results. The final net subsidy rate for Magnola is listed in the section entitled “Final Results of the Review.”

EFFECTIVE DATE: April 28, 2003.

FOR FURTHER INFORMATION CONTACT: Melanie Brown, Office 1, Group 1, Import Administration, International Trade Administration, U.S. Department of Commerce, 14th Street and Constitution Avenue, NW, Washington, DC 20230, telephone (202) 482-4987.

SUPPLEMENTARY INFORMATION:

Background

Since the publication of the preliminary results of new shipper review on January 28, 2003, (see Alloy Magnesium from Canada: Preliminary Results of Countervailing Duty New Shipper Review, 68 FR 4175 (January 28, 2003) (“Preliminary Results”)), the following events have occurred. On February 27, 2003, we received case briefs from the Government of Quebec (“GOQ”) and Magnola Metallurgy, Inc. (“Magnola”), (collectively, “the respondents”), and U.S. Magnesium, LLC., the petitioner. The respondents and the petitioner submitted rebuttal briefs on March 4, 2003.

Scope of the Review

The products covered by this review are shipments of alloy magnesium from Canada. Magnesium alloys contain less than 99.8 percent magnesium by weight with magnesium being the largest metallic element in the alloy by weight, and are sold in various ingot and billet forms and sizes. The alloy magnesium subject to review is currently classifiable under item 8104.19.0000 of the Harmonized Tariff Schedule of the United States (“HTSUS”). Although the HTSUS subheading is provided for convenience and customs purposes, the written description of the merchandise subject to the order is dispositive.

Secondary and granular magnesium are not included in the scope of this order. Our reasons for excluding granular magnesium are summarized in Preliminary Determination of Sales at Less Than Fair Value: Pure and Alloy Magnesium From Canada, 57 FR 6094 (February 20, 1992).

Analysis of Comments Received

All issues raised in the case and rebuttal briefs by parties to this review are addressed in the “Issues and Decision Memorandum” from Susan H. Kuhbach, Acting Deputy Assistant Secretary, Import Administration to Joseph A. Spetrini, Acting Assistant Secretary for Import Administration, dated April 21, 2003 (“Decision Memorandum”), which is hereby adopted by this notice. Attached to this notice as Appendix I is a list of the issues which parties have raised and to which we have responded in the Decision Memorandum. Parties can find a complete discussion of all issues raised in this review and the corresponding recommendations in this public memorandum which is on file in the Central Records Unit (“CRU”) in Room B-099 of the main Commerce building. In addition, a complete version of the Decision Memorandum can be accessed directly on the Internet at http://ia.ita.doc.gov/frn/ under the heading “Canada.” The paper copy and electronic version of the Decision Memorandum are identical in content.

Changes Since the Preliminary Results

We have made no changes to our preliminary findings as a result of either our analysis of the comments received or of any new information or evidence of changed circumstances. Therefore, the final results do not differ from the preliminary results of this review.

Final Results of Review

In accordance with 19 CFR 351.221(b)(5)(i), we calculated a subsidy rate for Magnola, the sole producer/exporter subject to this new shipper review. For the period January 1, 2001, through December 31, 2001, we determine the net subsidy rate for Magnola as stated below.

Net Subsidy Rate
Manufacturer/Exporter | Percent
Magnola Metallurgy, Inc. | 7.00 percent

We will disclose our calculations to the interested parties in accordance with section 351.224(b) of the regulations.

Assessment Rates

The Department will issue appropriate assessment instructions directly to the Customs Service within 15 days of publication of these final results. For the period January 1, 2001, through December 31, 2001, the assessment rates applicable to all non-reviewed companies are the cash deposit rates in effect at the time of entry.

Cash Deposit Requirements

The Department also intends to instruct Customs to collect cash deposits of estimated countervailing duties at the rate of 7.00 percent on the f.o.b. value of all shipments of the subject merchandise from Magnola entered, or withdrawn from warehouse, for consumption on or after the date of publication of these final results.

The cash deposit rate that will be applied to non-reviewed companies covered by these orders is that established in Pure and Alloy Magnesium From Canada; Final Results of the Second (1993) Countervailing Duty Administrative Reviews, 62 FR 48607 (September 16, 1997) or the company-specific rate published in the most recent final results of an administrative review in which a company participated.

This notice serves as a reminder to parties subject to administrative protective order (“APO”) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing this administrative review and notice in accordance sections 751(a)(2)(B) and 777(i) of the Act.

Dated: April 21, 2003.
Joseph A. Spetrini,
Acting Assistant Secretary for Import Administration.

APPENDIX I

List of Comments and Issues in the Decision Memorandum

Comment 1: Emploi-Québec Manpower Training Program is an export subsidy

Comment 2: The Manpower Training Program is not countervailable

Comment 3: Magnola Metallurgy's company specific Average Useful Life (“AUL”)

Comment 4: Magnola Metallurgy's discount rate

[FR Doc. 03-10369 Filed 4-25-03; 8:45 am]

BILLING CODE 3510-DS-S